DEPARTMENT OF THE INTERIOR

Bureau of Land Management

[LL WO31000-L13100000.PP0000-24-1A]

Extension of Approval of Information Collection, OMB Control Number 1004-0196

AGENCY: Bureau of Land Management, Interior.

ACTION: 30-day notice and request for comments.

SUMMARY: The Bureau of Land Management (BLM) has submitted an information collection request to the Office of Management and Budget (OMB) for a 3-year renewal of OMB Control Number 1004-0196 under the Paperwork Reduction Act. This control number covers paperwork requirements for operators and operating rights owners in the National Petroleum Reserve—Alaska (NPRA).

DATES: The OMB is required to respond to this information collection request within 60 days but may respond after 30 days. Therefore, written comments should be received on or before April 25, 2011.

ADDRESSES: Please submit comments directly to the Desk Officer for the Department of the Interior (OMB #1004-0196), Office of Management and Budget, Office of Information and Regulatory Affairs, fax 202-395-5806, or by electronic mail at oira_docket@omb.eop.gov. Please provide a copy of your comments to the BLM by mail, electronic mail, or fax:

Mail: U.S. Department of the Interior, Bureau of Land Management, 1849 C Street, NW., Room 2134LM, Attention: Jean Sonneman, Washington, DC 20240.

Fax: to Jean Sonneman at 202-912-7102.

Electronic mail: Jean_Sonneman@blm.gov.

Please indicate “Attn: 1004-0196” regardless of the form of your comments.

FOR FURTHER INFORMATION CONTACT: Barbara Gamble, Division of Fluid Minerals, at 202-912-7148. Persons who use a telecommunication device for the deaf (TDD) may call the Federal Information Relay Service (FIRS) at 1-800-877-8339, to contact Ms. Gamble. You may also review the information collection request online at http://www.reginfo.gov/public/do/PRAMain. Select “Department of the Interior” under the heading, “Currently Under Review.”

SUPPLEMENTARY INFORMATION: The Paperwork Reduction Act (44 U.S.C. 3501-3521) and OMB regulations at 5 CFR part 1320 provide that an agency may not conduct or sponsor a collection of information unless it displays a currently valid OMB control number. Until OMB approves a collection of information, you are not obligated to respond (44 U.S.C. 3506 and 3507). In order to obtain and renew an OMB control number, Federal agencies are required to seek public comment on information collection and recordkeeping activities (see 5 CFR 1320.8(d) and 1320.12(a)). For this control number, the BLM requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments as directed under ADDRESSES and DATES. Please refer to OMB control number 1004-0196 in your correspondence. Before including your address, phone number, e-mail address, or other personal identifying information in your comment, you should be aware that your entire comment—including your personal identifying information—may be made publicly available at any time. While you can ask us in your comment to withhold your personal identifying information from public review, we cannot guarantee that we will be able to do so.

The following information is provided for the information collection:

Title: Oil and Gas Leasing: National Petroleum Reserve—Alaska (43 CFR part 3130).

Forms: There are no forms associated with control number 1004-0196.

OMB Control Number: 1004-0196.

Abstract: This control number covers paperwork requirements for operators and operating rights owners in the National Petroleum Reserve—Alaska (NPRA). In accordance with the Naval Petroleum Reserves Production Act (42 U.S.C. 6501-6508) and regulations at 43 CFR part 3130 (subparts 3130, 3133, 3135, 3137, and 3138), a respondent may apply to the Bureau of Land Management (BLM) for designation of an NPRA unit agreement and, if the BLM authorizes such an agreement, the respondent may operate under a unit agreement within the NPRA. The BLM uses the information to meet its responsibilities under the relevant legal provisions. There was no drilling activity in the NPRA in fiscal year 2010, and the BLM anticipates none in fiscal year 2011. Consequently, there has been no recent collection of information under this control number. Notwithstanding these recent developments, the BLM seeks renewal of this control number because of the possibility of future operations.

Frequency of Collection: On occasion. Responses are required in order to obtain or retain a benefit.

Estimated Reporting and Recordkeeping “Hour” Burden: 21 responses and 217.75 hours annually. Respondents are not required to purchase additional computer hardware or software to comply with these information requirements. There are no filing fees associated with this information collection. There are no capital or start-up costs involved with this information collection. The following table details the individual components and respective hour burdens of this information collection request:

A. Type of response | B. Number of responses | C. Time per response | D. Total time (B × C)
Royalty reduction (43 CFR 3133.4) | 1 | 16 hours | 16 hours.
Suspension of operations (43 CFR 3135.3) | 1 | 4 hours | 4 hours.
Notification of operations (43 CFR 3135.6) | 2 | 15 minutes | 30 minutes.
Unit designation (43 CFR 3137.21 and 3137.23) | 1 | 80 hours | 80 hours.
Notification of unit approval (43 CFR 3137.25) | 1 | 1 hour | 1 hour.
Certification for modification (43 CFR 3137.52) | 1 | 4 hours | 4 hours.
Acceptable bonding (43 CFR 3137.60) | 1 | 30 minutes | 30 minutes.
Change of unit operator (43 CFR 3137.61) | 1 | 45 minutes | 45 minutes.
Certification of unit obligation (43 CFR 3137.70) | 1 | 2 hours | 2 hours.
Certification of continuing development (43 CFR 3137.71) | 1 | 2 hours | 2 hours.
Productivity for a participating area (43 CFR 3137.84) | 1 | 12 hours | 12 hours.
Unleased tracts (43 CFR 3137.87) | 1 | 3 hours | 3 hours.
Notification of productivity (43 CFR 3137.88) | 1 | 30 minutes | 30 minutes.
Notification of productivity for non-unit well (43 CFR 3137.91) | 1 | 30 minutes | 30 minutes.
Production information (43 CFR 3137.92) | 1 | 1 hour | 1 hour.
Lease extension (43 CFR 3137.111) | 1 | 3 hours | 3 hours.
Inability to conduct operations activities (43 CFR 3137.112) | 1 | 2 hours | 2 hours.
Unit termination (43 CFR 3137.130) | 1 | 1 hour | 1 hour.
Impact mitigation (43 CFR 3137.135) | 1 | 4 hours | 4 hours.
Storage agreement (43 CFR 3138.11) | 1 | 80 hours | 80 hours.
Totals | 21 |  | 217.75 hours.

60-Day Notice: As required in 5 CFR 1320.8(d), the BLM published a 60-day notice in the Federal Register on August 17, 2010 (75 FR 50775), soliciting public comments. The comment period closed on October 18, 2010. The BLM received one comment from the public in response to this notice. The comment was a general invective about the Federal government, the Department of the Interior, and the BLM. It did not address, and was not germane to, this information collection.

Therefore, we have not changed the collection in response to the comment.

Jean Sonneman,
Bureau of Land Management, Information Collection Clearance Officer.

[FR Doc. 2011-7038 Filed 3-24-11; 8:45 am]

BILLING CODE 4310-84-P